ENVIRONMENTAL PROTECTION AGENCY

40 CFR Part 52

[TX-57-1-7183a; FRL-7010-9]

Approval and Promulgation of Implementation Plan for Texas: Transportation Control Measures Rule

AGENCY: Environmental Protection Agency (EPA).

ACTION: Direct final rule.

SUMMARY: This action approves a revision to the Texas State Implementation Plan (SIP) that contains the transportation control measures (TCM) rule. The requirements in the State TCM rule address the roles and responsibilities of the Metropolitan Planning Organizations (MPO), implementing transportation agencies, and provide a method for substitution of the TCMs without a SIP revision in the nonattainment and maintenance areas. The TCM rule is intended to promote effective implementation of the TCMs, streamline TCM substitution process and approval, and increase interaction between the Texas Natural Resource Conservation Commission (TNRCC) and the MPOs in the air quality-transportation planning process at the local levels.

The EPA is approving this SIP revision under section 110(k) and 182 of the Clean Air Act (the Act). The rationale for the final approval action and other information are provided in this document.

DATES: This rule is effective on September 14, 2001 without further notice, unless EPA receives adverse comment by August 15, 2001. If EPA receives such comment, EPA will publish a timely withdrawal in the Federal Register informing the public that this rule will not take effect.

ADDRESSES: Written comments on this action should be addressed to Mr. Thomas H. Diggs, Chief, Air Planning Section (6PD-L), at the EPA Region 6 Office listed below. Copies of documents relevant to this action are available for public inspection during normal business hours at the following locations. Anyone wanting to examine these documents should make an appointment with the appropriate office at least two working days in advance.

Air Planning Section (6PDL), Multimedia Planning and Permitting Division, Environmental Protection Agency, Region 6, 1445 Ross Avenue, Dallas, Texas 75202, Telephone: (214) 665-7214

Texas Natural Resource Conservation Commission, Mobile Source Division, 12124 Park 35 Circle, Austin, Texas 78753, Telephone: (512) 239-1000.

FOR FURTHER INFORMATION CONTACT: Mr. J. Behnam, P. E.; Air Planning Section (6PDL), Multimedia Planning and Permitting Division, Environmental Protection Agency, Region 6, 1445 Ross Avenue, Dallas, Texas 75202, Telephone (214) 665-7247.

SUPPLEMENTARY INFORMATION: The information contained under this title includes the following sections:

I. What is the Background for this Action?

II. What did the State submit and how did we evaluate the State's SIP submission?

III. What is our final action?

IV. Administrative Requirements

I. What Is the Background for This Action?

Section 182(d)(1)(A) of the Act requires States containing ozone nonattainment areas which are classified as “severe” pursuant to section 181(a) of the Act to adopt TCM and transportation control strategies to offset any growth in emissions from growth in Vehicle Miles Traveled (VMT) or number of vehicle trips and to attain reductions in motor vehicle emissions (in combination with other emission reduction requirements) as necessary to comply with the Act's reasonable-further-progress (RFP) milestones and attainment requirements. The requirements for establishing a VMT Offset program are discussed in the General Preamble to Title I of the Act (57 FR 13498), April 16, 1992, in addition to section 182(d)(1)(A).

In addition, the states may adopt TCMs as control strategies in order to meet the requirements of sections 182(b) and 182(c) of the Act for RFP and attainment SIPs in the ozone nonattainment areas. The EPA can only accept the emission credits resulting from such TCMs if the State can provide adequate evidence that the State will have authority to enforce the TCMs which are identified as a part of control strategy in the RFP and attainment demonstration SIPs for meeting the ozone standard. See section 110(a)(2)(A) of the Act. The State of Texas has adopted certain TCMs for meeting the RFP requirements under sections 182(b) and (c) of the Act for the 15 percent RFP and attainment demonstration SIPs.

Our action today is only addressing the State's authority, processes, procedures, and responsibilities of each agency regarding implementation and substitution of the TCMs in any SIP in the designated nonattainment or maintenance areas.

II. What Did the State Submit and How Did We Evaluate the State's SIP Submission?

The Governor of Texas submitted the TCM SIP revision on May 17, 2000. The TNRCC adopted the Texas TCM rule on May 9, 2000, after appropriate public notice and hearing. The TCM rule consists of two parts. 30 Texas Administrative Code (TAC) Chapter 14 Section 114.5 includes “Transportation Planning Definitions” and 30 TAC Chapter 14 Section 114.270 contains “Transportation Control Measures” which sets forth the processes and procedures. The TNRCC developed the TCM rule in cooperation with the MPOs, Texas Department of Transportation, and in consultation with the Federal Highway Administration, Federal Transit Administration, and EPA. The State TCM rule identifies responsibility of each agency and sets forth the procedures and processes for selection of the TCMs, inclusion in the SIP, periodic reporting and record-keeping, corrective measures, emissions reductions and TCM effectiveness, and consequences of non-implementation. In addition, the rule specifically establishes processes and procedures for substitution of any TCM in the SIP that can not be implemented for any reason by the implementation date in the SIP. The procedures for substitution of the TCMs require public notice and comment period and consultation, but they do not require a formal SIP revision and approval by the EPA.

We have reviewed the State TCM processes and procedures, and we have evaluated the provisions of the rule based on the criteria provided in the Act for development of SIPs in the nonattainment and maintenance areas. We note that neither the Act nor the EPA rules require the State to develop a TCM rule and submit a SIP revision for the TCM purposes. Our evaluation is specifically based on Sections 110, 176, 182, and consistency of this rule with the Act. Based on this review, we have determined that the TNRCC's TCM rule provides adequate authority and procedures for implementation and substitution of TCMs in the designated nonattainment and maintenance areas including how equivalency is determined, public participation and EPA concurrence. Therefore, we are approving this SIP revision.

III. What Is Our Final Action?

We are approving the Texas TCM rule which addresses the roles and responsibilities of the MPOs, implementing transportation agencies, and provides a method for substitution of the TCMs without a SIP revision in the nonattainment and maintenance areas. We have evaluated this SIP revision and have determined that the State's rules in TAC 30 Chapter 114 sections 114.5 and 114.270 provide adequate processes and procedures consistent with the Act for implementing, tracking, and substitution of the TCMs which are used as a control strategy in the SIPs for attainment and maintenance of the NAAQS. The TNRCC conducted appropriate public participation during development and adoption of this rule at the local level.

The EPA is publishing this action without prior proposal because the EPA views this as a noncontroversial amendment and anticipates no adverse comments. However, in a separate document in this Federal Register publication, the EPA is proposing to approve the SIP revision should adverse comments be filed. This action will be effective on September 14, 2001, unless adverse comments are received by August 15, 2001. If the EPA receives such comments, this action will be withdrawn before the effective date by publishing a subsequent document that will withdraw the final action. All public comments received will then be addressed in a subsequent final rule based on this action serving as a proposed rule. The EPA will not institute a second comment period on this action. Any parties interested in commenting on this action should do so at this time. If no such comments are received on this action, the public is advised that this action will be effective September 14, 2001.

IV. Administrative Requirements

Under Executive Order 12866 (58 FR 51735, October 4, 1993), this action is not a “significant regulatory action” and therefore is not subject to review by the Office of Management and Budget. This action merely approves State law as meeting Federal requirements and imposes no additional requirements beyond those imposed by State law. Accordingly, the Administrator certifies that this rule will not have a significant economic impact on a substantial number of small entities under the Regulatory Flexibility Act (5 U.S.C. 601 et seq.). Because this rule approves pre-existing requirements under State law and does not impose any additional enforceable duty beyond that required by State law, it does not contain any unfunded mandate or significantly or uniquely affect small governments, as described in the Unfunded Mandates Reform Act of 1995 (Public Law 104-4). This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely approves a State rule implementing a Federal standard, and does not alter the relationship or the distribution of power and responsibilities established in the Act. This rule also is not subject to Executive Order 13045 (62 FR 19885, April 23, 1997), because it is not economically significant.

In reviewing SIP submissions, EPA's role is to approve State choices, provided that they meet the criteria of the Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. The EPA has complied with Executive Order 12630 (53 FR 8859, March 15, 1988) by examining the takings implications of the rule in accordance with the “Attorney General's Supplemental Guidelines for the Evaluation of Risk and Avoidance of Unanticipated Takings” issued under the executive order. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. The EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2). This rule will be effective September 14, 2001 unless EPA receives adverse written comments by August 15, 2001.

Under section 307(b)(1) of the Act, petitions for judicial review of this action must be filed in the United States Court of Appeals for the appropriate circuit by September 14, 2001. Filing a petition for reconsideration by the Administrator of this final rule does not affect the finality of this rule for the purposes of judicial review nor does it extend the time within which a petition for judicial review may be filed, and shall not postpone the effectiveness of such rule or action. This action may not be challenged later in proceedings to enforce its requirements. See section 307(b)(2) of the Act.

List of Subjects in 40 CFR Part 52

Environmental protection, Air pollution control, Air Quality-Transportation Planning, Carbon Monoxide, Hydrocarbons, Incorporation by reference, Intergovernmental relations, Nitrogen oxides, Ozone, Particulate matter, Reporting and record-keeping requirements, Transportation Control Measures, Volatile organic compounds.

Dated: June 13, 2001.
Jerry Clifford,
Acting Regional Administrator, Region 6.

Part 52, chapter I, title 40 of the Code of Federal Regulations is amended as follows:

PART 52—[AMENDED]

1. The authority citation for part 52 continues to read as follows:

Authority: 42 U.S.C. 7401 et seq.

Subpart SS—Texas

2. Section 52.2270 is amended:

a. In the table in paragraph (c) under Chapter 114 by adding new Section 114.5, Transportation Planning Definition, under Subchapter A;

b. In the table in paragraph (c) by adding new Section 114.270, Transportation Control Measures, under Subchapter G.

c. In the table entitled “EPA Approved Nonregulatory Provisions and Quasi-Regulatory Measures in the Texas SIP” in paragraph (e) by adding to the end of the table an entry for “Transportation Control Measures SIP Revision”.

The additions read as follows:

§ 52.2270 Identification of plan.

* * * * *

(c) * * *

EPA Approved Regulations in the Texas SIP
State citation | Title/subject | State approval/submittal date | EPA approval date | Explanation
* * * * * * *
Chapter 114 (Reg 4)—Control of Air Pollution From Motor Vehicles
Subchapter A—Definitions
* * * * * * *
Section 114.5 | Transportation Planning Definition | 05/09/2000 | July 16, 2001 66 FR 36923 |
* * * * * * *
Subchapter G—Transportation Planning
* * * * * * *
Section 114.270 | Transportation Control Measures | 05/09/2000 | July 16, 2001 66 FR 36923 |
* * * * * * *

* * * * *

(e) * * *

EPA Approved Nonregulatory Provisions and Quasi-Regulatory Measures in the Texas SIP
Name of SIP provision | Applicable geographic or nonattainment area | State submittal/effective date | EPA approval date | Comments
* * * * * * *
Transportation Control Measures SIP Revision | All Nonattainment and Maintenance Areas | 05/09/2000 | July 16, 2001 66FR 32924 | Chapter 1. Introduction, chapter 2. General, and chapter 3. Criteria and procedures.

[FR Doc. 01-17555 Filed 7-13-01; 8:45 am]

BILLING CODE 6560-50-P